DEPARTMENT OF COMMERCE

International Trade Administration

[A-570-890]

Wooden Bedroom Furniture From the People's Republic of China: Amended Final Results of Antidumping Duty Administrative Review and New Shipper Reviews

AGENCY: Import Administration, International Trade Administration, Department of Commerce.

SUMMARY: On August 17, 2009 the Department of Commerce (“Department”) published the final results of the antidumping duty administrative review and new shipper reviews (“NSRs”) of wooden bedroom furniture from the People's Republic of China (“PRC”). See Wooden Bedroom Furniture from the People's Republic of China: Final Results of Antidumping Duty Administrative Review and New Shipper Reviews, 74 FR 41374 (August 17, 2009) (“Final Results”), and accompanying Issues and Decision Memorandum. The period of review is January 1, 2007, through December 31, 2007. We are amending our Final Results to correct ministerial errors made in the calculation of the administrative and new shipper reviews pursuant to section 751(h) of the Tariff Act of 1930, as amended (“the Act”). These corrections will also affect the dumping margins for the companies in the administrative review to which a separate rate applies.

DATES: Effective Date: October 29, 2009.

FOR FURTHER INFORMATION CONTACT: Sergio Balbontin or Erin Begnal, AD/CVD Operations, Office 8, Import Administration, International Trade Administration, U.S. Department of Commerce, 14th Street and Constitution Avenue, NW., Washington, DC 20230; telephone: (202) 482-6478 and (202) 482-1442, respectively.

SUPPLEMENTARY INFORMATION:

Background

On August 14, 2009, Bon Ten Furniture Co., Ltd. (“Bon Ten”) submitted ministerial error allegations with respect to the Final Results of the January 1, 2007, through December 31, 2007, administrative review. On August 19, 2009, the American Furniture Manufacturers Committee for Legal Trade and Vaughan-Basset Furniture Company, Inc. submitted rebuttal comments with respect to Bon Ten's ministerial error allegations. On August 19, 2009, Yihua Timber Industry Co., Ltd (“Yihua Timber”) submitted ministerial error allegations with respect to the Final Results of the January 1, 2007, through December 31, 2007, administrative review. No interested party submitted comments with respect to Yihua Timber's ministerial error allegations.

Ministerial Errors

A ministerial error is defined in section 751(h) of the Act and further clarified in 19 CFR 351.224(f) as “an error in addition, subtraction, or other arithmetic function, clerical error resulting from inaccurate copying, duplication, or the like, and any other similar type of unintentional error which the Secretary considers ministerial.”

After analyzing all interested parties' comments, we have determined, in accordance with 19 CFR 351.224(e), that ministerial errors existed in certain calculations for Yihua Timber in the Final Results. Correction of these errors results in a change to Yihua Timber's final antidumping duty margin. These corrections will also affect the dumping margins for the other companies in the review to which a separate rate applies. The dumping margins for Orient International Shanghai Foreign Trade Co., Ltd. and the PRC-wide entity remain unchanged. Because several of the ministerial errors pertain to the calculation of the surrogate financial ratios used for the concurrent NSRs, we also corrected the calculations of the new shippers, Golden Well International (HK), Ltd./Zhangzhou XYM Furniture Product Co., Ltd. and Dongguan Sunshine Furniture Co., Ltd./Dongguan Sunshine Furniture Co., Ltd., as well. In addition, we are continuing to find that Bon Ten is part of the PRC-wide entity. However, we are clarifying that our determination concerning Bon Ten covers the period August 1, 2007, through December 31, 2007, not the entire period of review. We also made a correction to Yihua Timber's assessment rates due to an error we found in reviewing the record. For a detailed discussion of these ministerial errors, as well as the Department's analysis, see Ministerial Error Memorandum for the Final Results of the 2007 Administrative and New Shipper Reviews of Wooden Bedroom Furniture from the People's Republic of China, dated October 7, 2009 (“Ministerial Error Memo”). The Ministerial Error Memo is on file in the Central Records Unit, room 1117 in the main Department building.

Therefore, in accordance with section 751(h) of the Act and 19 CFR 351.224(e), we are amending the Final Results of the administrative and new shipper reviews of wooden bedroom furniture from the PRC. The revised weighted-average dumping margins are detailed below. For Yihua Timber-specific calculations, see “Antidumping Duty Administrative Review: Wooden Bedroom Furniture from the People's Republic of China—Analysis of the Amended Final Results Margin Calculation for Guangdong Yihua Timber Industry Co., Ltd.,” dated concurrently with this notice. For the amended calculations for the new shippers, see “Antidumping Duty New Shipper Review: Wooden Bedroom Furniture from the People's Republic of China—Analysis of the Amended Final Results Margin Calculation for Golden Well International (HK), Ltd.,” and “Antidumping Duty New Shipper Review: Wooden Bedroom Furniture from the People's Republic of China—Analysis of the Amended Final Results Margin Calculation for Dongguan Sunshine Furniture Co., Ltd.,” dated concurrently with this notice. Listed below are the revised weighted-average dumping margins resulting from these amended final results:

Administrative Review
Exporter | Original final margin (%) | Amended final margin (%)
Guangdong Yihua Timber Industry Co., Ltd. (a.k.a. Yihua Timber Industry Co., Ltd.) | 29.98 | 29.89
Brother Furniture Manufacture Co., Ltd | 29.98 | 29.89
COE, Ltd | 29.98 | 29.89
Decca Furniture Limited | 29.98 | 29.89
Dongguan Landmark Furniture Products Ltd | 29.98 | 29.89
Dongguan Mingsheng Furniture Co., Ltd | 29.98 | 29.89
Dongguan Yihaiwei Furniture Limited | 29.98 | 29.89
Fujian Lianfu Forestry Co., Ltd. aka Fujian Wonder Pacific, Inc. (Dare Group) | 29.98 | 29.89
Fuzhou Huan Mei Furniture Co., Ltd. (Dare Group) | 29.98 | 29.89
Jiangsu Dare Furniture Co., Ltd. (Dare Group) | 29.98 | 29.89
Hwang Ho International Holdings Limited | 29.98 | 29.89
Meikangchi (Nantong) Furniture Company Ltd | 29.98 | 29.89
Qingdao Shengchang Wooden Co., Ltd | 29.98 | 29.89
Shenzhen Shen Long Hang Industry Co., Ltd | 29.98 | 29.89
Transworld (Zhangzhou) Furniture Co., Ltd | 29.98 | 29.89
Winny Universal, Ltd., Zhongshan Winny Furniture Ltd., Winny Overseas, Ltd | 29.98 | 29.89
Xingli Arts & Crafts Factory of Yangchun | 29.98 | 29.89
Zhongshan Gainwell Furniture Co., Ltd | 29.98 | 29.89

New Shipper Review
Exporter/producer combination | Original final margin (%) | Amended final margin (%)
Golden Well International (HK), Ltd./Zhangzhou XYM Furniture Product Co., Ltd | 0 | 0
Dongguan Sunshine Furniture Co., Ltd./Dongguan Sunshine Furniture Co., Ltd | 0 | 0

Disclosure

We will disclose the calculations performed for these amended final results within five days of the date of publication of this notice to interested parties in accordance with 19 CFR 351.224(b).

Assessment Rate

The Department will determine, and U.S. Customs and Border Protection (“CBP”) shall assess, antidumping duties on all appropriate entries of subject merchandise in accordance with the final results of this review. For assessment purposes, we calculated exporter/importer- (or customer) -specific assessment rates for merchandise subject to this review. Where appropriate, we calculated an ad valorem rate for each importer (or customer) by dividing the total dumping margins for reviewed sales to that party by the total entered values associated with those transactions. For duty-assessment rates calculated on this basis, we will direct CBP to assess the resulting ad valorem rate against the entered customs values for the subject merchandise. Where appropriate, we calculated a per-unit rate for each importer (or customer) by dividing the total dumping margins for reviewed sales to that party by the total sales quantity associated with those transactions. For duty-assessment rates calculated on this basis, we will direct CBP to assess the resulting per-unit rate against the entered quantity of the subject merchandise. Where an importer- (or customer) -specific assessment rate is de minimis (i.e., less than 0.50 percent), the Department will instruct CBP to assess that importer (or customer's) entries of subject merchandise without regard to antidumping duties. The Department intends to issue appropriate assessment instructions directly to CBP 15 days after publication of the amended final results of these reviews.

Cash Deposit Requirements

The following cash deposit requirements will be effective retroactively on any entries made on or after August 17, 2009, the date of publication of the Final Results, for all shipments of the subject merchandise entered, or withdrawn from warehouse, for consumption on or after the publication date, as provided for by section 751(a)(2)(C) of the Act: (1) For the exporters listed above, the cash deposit rate will be the rate shown for this company (except if the rate is de minimis, i.e., less than 0.5 percent, a zero cash deposit will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 216.01 percent; and (4) for all non-PRC exporters of subject merchandise which have not received their own rate, the cash deposit rate will be the rate applicable to the PRC exporters that supplied that non-PRC exporter. These deposit requirements shall remain in effect until further notice.

These amended final results are published in accordance with sections 751(h) and 777(i)(1) of the Act.

Dated: October 22, 2009.
Ronald K. Lorentzen,
Acting Assistant Secretary for Import Administration.

[FR Doc. E9-26107 Filed 10-28-09; 8:45 am]

BILLING CODE 3510-DS-P